NATIONAL ARCHIVES AND RECORDS ADMINISTRATION

State, Local, Tribal, and Private Sector Policy Advisory Committee

AGENCY: National Archives and Records Administration.

ACTION: Notice of Establishment of a NARA Advisory Committee, Pursuant to the Federal Advisory Committee Act, 5 U.S.C. Appendix 2 and by Section 3(d) of Executive Order 13549.

SUMMARY: The President of the United States has determined that the establishment of the State, Local, Tribal, and Private Sector Policy Advisory Committee is necessary and is in the public interest in connection with the Classified National Security Information Program. This committee will comply with the provisions of the Federal Advisory Committee Act, as amended (5 U.S.C. Appendix 2).

FOR FURTHER INFORMATION CONTACT: Mary Ann Hadyka, 301-837-1782.

SUPPLEMENTARY INFORMATION: This Committee shall discuss Classified National Security Information Program-related policy issues in dispute in order to facilitate their resolution and to otherwise recommend changes to policies and procedures that are designed to remove undue impediments to the sharing of information under the Program.

Dated: December 15, 2010.
Mary Ann Hadyka,
Committee Management Officer.

[FR Doc. 2010-32146 Filed 12-20-10; 8:45 am]

BILLING CODE 7515-01-P